DEPARTMENT OF STATE

[Public Notice 3976]

Bureau of Educational and Cultural Affairs Request for Grant Proposals: Afghanistan Women's Teacher-Training Project

SUMMARY: The Office of Global Educational Programs of the Bureau of Educational and Cultural Affairs announces an open competition for the Afghanistan Women's Teacher-Training Project. Public and private non-profit organizations or universities meeting the provisions described in Internal Revenue Code section 26 U.S.C. 501(c)(3) may submit proposals to enhance the skills of Afghan women teachers working in basic education. The project will be conducted in three phases and Bureau funding of up to $200,000 is currently available to support one grant. Should additional funding become available, we would anticipate increasing participant numbers.

PROGRAM INFORMATION

1. Overview

The Bureau of Educational and Cultural Affairs seeks to assist in the on-going efforts to re-establish the ability of the government of Afghanistan to deliver education to all its children by providing a project which targets potential master teachers or teacher trainers. Concentrating on women teachers will offer a sharp contrast to the actions of the previous regime in which women were systematically stripped of their positions and careers in the education field. The Afghan Women's Teacher Training Project will augment the skills of Afghan women teachers working in basic education. The selected participants should have demonstrated their commitment to teaching in recent years by serving Afghanistan's children.

All programming and logistics including design and implementation of the academic, cultural, and administrative components will be the responsibility of the applicant. These responsibilities include (1) a three-phased academic component in Afghanistan and the U.S. that provides for an assessment of the relevant needs of teachers and the education system, recruitment of ten master teachers and their exposure to relevant basic education curricula, train the trainer skills, educational materials and technology, and education policy topics that would benefit basic education teachers in Afghanistan, and follow-on training preferably in Afghanistan, (2) a cultural component that complements and reinforces material covered in the academic component, during four weeks in the U.S. including a home stay and a visit of no less than four days in Washington, DC. The grantee organization will be expected to arrange and budget for housing, meals, transportation, allowances for incidental expenses, books, and excess baggage.

Responsibilities for this particular project include:

1.A. Needs Assessment: After receipt of the grant the grantee institution should carry out a needs assessment in Afghanistan to determine what topics teachers and school administrators, appropriate Afghan education officials, and the U.S. Embassy Kabul Public Affairs section identify as most relevant to Afghan basic education and develop the project around those perceived priorities. At the time of assessment the Bureau and Embassy Kabul should be consulted about the feasibility of and timeline for conducting the project as designed in the applicant's proposal.

1.B. Recruitment and Selection: The grant recipient will be responsible for identifying ten Afghan women participants for the U.S. phase of the project. The participants should be basic education teachers or specialists with a strong commitment to rebuilding the teaching corps of Afghanistan. Participants could come from among those who ran home-based schools, especially for girls, in Afghanistan or Pakistan during the Taliban regime. They might include women who are serving in the current Ministry of Education or a provincial government department, and who have basic education responsibility in areas such as curriculum, educational materials development or supervision. The recruitment methodology and specific criteria for selection should be outlined in the proposal, including language skills that will be required of participants. Applicants should expect to carry out the entire selection process, with the understanding that the Bureau and the Public Affairs Section of the U.S. Embassy in Kabul must be consulted during the recruitment and selection process.

Applicants should identify in-country (Afghanistan-based) partner organizations and individuals with whom they are proposing to collaborate and describe in detail previous cooperative projects undertaken by the organization(s)/individual(s). Specific information about in-country partner's activities and accomplishments is required and should be included in the section on “Institutional and Language Capacity.” Please include letters of project commitment from any in-country partners.

1.C. Training Workshops: Participants will travel to the U.S. for a four-week training program to enhance their expertise and skills so that they become master teachers. Although the program will reference American examples of education reform, the wide disparity between the American and Afghanistan contexts demands that the focus be on the Afghan education system. Any American examples that are used must have relevance and applicability to the realities of Afghanistan. This project should not be perceived to be an American studies program or a program on concepts of American basic education, but a Teacher-Training Project specifically designed for Afghanistan educators. The approach should be one that provides in-depth content on a few selected themes rather than cursory information on a wide variety of topics. The workshop in the U.S. will upgrade their curriculum and materials development and train-the-trainer skills, while also affording opportunities to observe student-centered learning. Specific topics might include: establishing coordination among the various components of the basic education system, turning policy into practice, testing, certification, staff development, community outreach, education technology, parental involvement and student government, etc. In addition, observation of U.S. classrooms and applied practices should be included. The activities should also provide Americans an opportunity to experience the culture of Afghanistan. Orientation sessions must be included for all foreign and American participants.

The project should also include a follow-up teacher training workshop, which ideally would be held in Afghanistan, in coordination with the ten previously trained Afghan participants, involving U.S. teacher-trainers identified by the grantee organization. The planning and conducting of the workshops should use an Afghan-driven approach. A modest stipend, perhaps $50 per month, should be budgeted for the ten Afghan women while the workshop is planned and implemented. The ten Afghan women would be expected to play a central role in the workshop phase. Design and content of the Afghan workshop would be determined with the ten participants while they still are in the U.S. phase of the teacher-training project. The follow-up workshop should reach out to at least 100 basic education teachers in Afghanistan and provide relevant education materials in Dari and Pashto to the participants. The project should be designed so that the sharing of information and training that occurs during the grant period will continue long after the grant period is over.

1.D. Timing: The project should be implemented at a time frame, such as a summer or winter break, that will cause the least disruption to the Afghan education system and the on-going responsibilities of the participants. Concurrence must be obtained from the Bureau and the Public Affairs Section of the U.S. Embassy in Kabul on the timing of the project.

2. Program Specific Guidlines

2.A. Travel: The Grant recipient must arrange all travel through their own travel agent in accordance with the “Fly America Act” and all government travel regulations (GTR).

2.B. Visa Requirements: Project participants traveling to the United States must obtain and comply with J-1 exchange visitor visa regulations. The Grant recipient is responsible for preparing for each participant a Certificate of Eligibility for Exchange Visitor J-1 status on a DSP-2019 (formerly known as an IAP-66) form with the U.S. organization or university's own program number. Applicant organizations must have authority to issue a Certificate of Eligibility (Form DSP-2019) or indicate in the proposal that they will seek it. Grant recipients with this authority may obtain Form DSP-2019 from their own grants or international students' office or, if unavailable there, from the Department of State's Exchange Visitor Program Designation Staff. J-1 visa authority must be obtained from the Department of State before foreign program participants or administrators can travel with funds from the award. For information on J-1 rules and regulations, contact: Exchange Visitor Program Designation, Office of Exchange Coordination and Designation, Department of State, SA-44, 301 Fourth Street, SW., Room 734, Washington, DC 20547, Phone: (202) 401-9810, Fax: (202) 401-9809.

2.C. Health Insurance Requirements: The Bureau provides limited accident and sickness, repatriation of remains, and medical evacuation insurance coverage for participants in the exchange phases of the Afghan Women's Teacher Training Project. The Bureau will provide the grantee with the necessary instructions and forms to complete prior to the travel phases for the U.S. and Afghan participants. Although the Bureau assumes the responsibility of providing limited insurance coverage for participants, the grantee is responsible for enrolling all participants in the Bureau's health coverage program. The grantee will assist in presenting claims to insurance agency and consult with the Bureau on grantee health issues that may affect successful program completion. A plan for providing participants with ready access to medical care should be included in the proposal.

Please note that the Bureau's health insurance program is described in the Proposal Submission Instructions (PSI).

2.D. Proposal Content: Applicants should submit a complete and thorough proposal describing the project in a convincing and comprehensive manner. Since there is no opportunity for applicants to meet with reviewing officials, the proposal should respond to the criteria set forth in the solicitation and other guidelines as clearly as possible.

Proposals should address succinctly, but completely, the elements described below and must follow all format requirements. Proposals should include the following items:

TAB A—Application for Federal Assistance Cover Sheet

TAB B—Executive Summary

In one double-spaced page, provide the following information about the project:

1. Name of organization/participating institutions.

2. Beginning and ending dates of the program.

3. Proposed theme and nature of activity.

4. Funding level requested from the Bureau, total program cost, total cost sharing from applicant and other sources.

5. Scope and Goals.

a. Number and description of participants.

b. Wider audience benefiting from program (overall impact).

c. Geographic diversity of program, both U.S. and overseas.

d. Anticipated results (short and long-term).

TAB C—Calendar of activities/itinerary

Narrative—In 20 double-spaced, single-sided pages, provide a detailed description of the project addressing the areas listed below.

1. Vision (statement of need, objectives, goals, benefits).

2. Participating Organizations.

3. Program Activities (assessment, advertisement, recruitment, orientation, academic component, cultural program, participant monitoring, follow-up workshops).

4. Program Evaluation.

5. Follow-on.

6. Project Management.

7. Work Plan/Time Frame.

TAB D—Budget Submission

Applicants must follow the budget submission guidelines presented in the RFGP and PSI for this solicitation.

Budget Guidlines: Currently, the Bureau anticipates awarding one grant, not to exceed $200,000 under this grant competition. However, the number or funding level of grants may increase if additional funding becomes available. ECA grant guidelines require that organizations with less than four years experience in conducting international exchanges be limited to $60,000 in Bureau funding. Organizations that cannot demonstrate at least a four year track-record implementing exchanges are not eligible to apply under this competition.

Applicants must submit a comprehensive budget for the entire program, not to exceed $200,000. There must be a summary budget as well as breakdowns reflecting both administrative and program budgets. Applicants must provide separate sub-budgets for each program component, phase, location, or activity to provide clarification. Applicants should include a budget narrative or budget notes for clarification of each line item. While there is no rigid ratio of administrative to program costs, priority will be given to proposals whose administrative costs are less than twenty five per cent of the total requested from ECA. Proposals should show strong administrative cost sharing contributions from the applicant, the in-country partner and other sources.

Allowable costs for the program include the following:

(1) International, economy-class airfare for participants.

By law, travel supported by the Bureau must be on U.S. flag carriers wherever possible. Use of foreign carriers when U.S. carriers are available may result in the grant organization being required to reimburse the Department for the cost of such travel.

(2) Domestic, economy-class travel to undertake eligible activities within the countries of the partner institutions.

(3) Local transportation allowances (e.g. car rental), which must be clearly justified in terms of need, length of visit, and cost savings. Ground transportation for group cultural and educational activities; ground transportation for airport arrival and departure.

(4) Costs of lodging, meals, and incidental expenses may not exceed the published U.S. government per diem allowance rates. Per diem rates can be found on the following Department of State website: http://exchanges.state.gov/education/rfgps. Actual costs may be less than the published per diem rates; dormitory accommodations and long-term rental arrangements are encouraged to enable applicants to avoid the costs of hotel accommodations and to employ other strategies for the donation of lodging, meals, and incidental expenses. Official per diem rates may change during the course of the project. Charges to the Department of State must be in compliance with U.S. government allowances in effect when the expense is incurred. Applicants are encouraged to arrange home stays to increase benefits derived from a cross-cultural experience.

(5) Educational materials and educational technology as appropriate. The proposal should explain use of the materials and technology in detail for the project in the content of the capacity in Afghanistan for the use of such technology. In addition, the proposal should indicate how the maintenance of any education technology tools would be sustained after the end of the grant.

(6) Priority will be given to proposals whose administrative costs are no more than twenty five per cent of the total requested from the Bureau. Administrative costs typically may include such expenditures as those listed in the sample budget format.

(7) Salary support at the U.S. or foreign partner institution for administrative assistance specific to the project is allowable, except for administrative expenditures incurred by government entities. Positions with project administrative duties should be identified. Pro-rated salary amounts for these individuals should be provided.

(8) A maximum daily fee of $300 is allowable to an external consultant reporting on the degree to which project objectives have been achieved. The amount requested for external consulting reporting must not exceed three percent of the total amount of project funding, and may be lower.

(9) Supplemental book allowance of $150 per person.

(10) Excess baggage allowance of $150 per person.

(11) Cultural activities: entrance fees, costs for Washington cultural and educational tour.

(12) Interpretation fees and/or translation of educational materials into Dari or Pashto. Interpreters with adequate skills and experience may be used for program activities as required.

(13) Escort Staff: Domestic transportation costs and per diem (or lodging and subsistence) for grantee escort staff for overnight cultural activities and Washington visit (if necessary), and project management as required.

(14) A modest stipend for the ten Afghan women educators for use during the final planning and implementation phase of the workshop done in Afghanistan. Applicant should explain the rationale for the stipend and the proposed follow-up role of the teacher trainers. Stipends are not to be used as living expenses.

The Bureau will consider funding project activities in addition to those specifically listed in the RFGP as long as they are not designated unallowable.

Unallowable costs include:

(1) Salary support for government employees (salary support may only be requested for non-government employees performing project administrative duties).

(2) Travel and expenses for lodging, meals, or incidental costs of the dependents of program participants or administrators.

(3) Visits whose primary purpose is to plan activities that would take place outside the scope of the project.

Please refer to the Solicitation Package for complete budget guidelines and formatting instructions.

Announcement Title and Number: All correspondence with the Bureau concerning this RFGP should reference the above title and number ECA/A/S/X-02-06.

FOR FURTHER INFORMATION, CONTACT: The Office of Global Educational Programs, Teacher Exchange, Branch, Room 349, U.S. Department of State, 301 4th Street, SW., Washington, DC 20547, (202) 401-5969, (fax 202) 401-1433, or Internet at mpizarro@pd.state.gov to request a Solicitation Package. The Solicitation Package contains detailed award criteria, required application forms, specific budget instructions, and standard guidelines for proposal preparation. Please specify Bureau Senior Program Officer Mary Lou Johnson-Pizarro on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's website at http://exchanges.state.gov/education/RFGPs. Please read all information before downloading.

Deadline for Proposals: All proposal copies must be received at the Bureau of Educational and Cultural Affairs by 5 p.m. Washington, DC time on Friday, May 24 2002. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/S/X-02-06, Program Management, ECA/EX/PM, Room 534 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy in Kabul for its review, with the goal of reducing the time it takes to get embassy comments for the Bureau's grants review process.

Diversity, Freedom, and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. The program office, as well as the Public Diplomacy section in Kabul and the regional bureau will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Program planning: Detailed agenda and relevant work plan should demonstrate substantive undertakings and logistical capacity. Agenda and plan should adhere to the program overview and guidelines described above. Proposals should clearly demonstrate how the institution will meet the program's objectives and plan. The recruitment and selection methodology of participants should be presented.

2. Support of Diversity: Proposals should demonstrate the recipient's commitment to promoting the awareness and understanding of diversity.

3. Institutional and Language Capacity: Proposed personnel and institutional resources should be adequate and appropriate to achieve the program or project's goals. Resumes for individuals mentioned in the proposal should be provided, including proposed U.S. and in-country staff, trainers, consultants, etc. Letters of support from partner organizations as well as site visit hosts should be included in the proposal. Proposals should also indicate the ability to communicate and translate materials using the Dari and Pashto languages.

4. Area Expertise: Proposals should reflect a practical understanding of the current political, economic and social environment. The demonstration of an institutional record of successful exchange programs in Afghanistan, or nearby countries with past Bureau grants should be highlighted; activities funded by other donors or governmental groups will be considered. Proposals should also indicate knowledge of similar projects being conducted in Afghanistan.

5. Follow-on Activities: Proposals should provide a plan for continued follow-on activity (without Bureau support), which insures that Bureau supported programs are not isolated events. Applicants should describe how responsibility and ownership of the program would be transferred to the in-country participants to ensure continued activity and impact. Programs that include convincing plans for sustainability will be given top priority.

6. Project Evaluation: Proposals should include a plan to evaluate the project's success, both as the activities unfold and at the end of the program. The Bureau recommends that the proposal include a draft survey questionnaire or other technique plus description of a methodology to use to link outcomes to original project objectives. The Grantee will be expected to submit intermediate reports after each project component is concluded or quarterly whichever is less frequent. The project should be designed so that the sharing of information and training that occurs during the grant period will continue long after the grant period is over.

7. Cost-effectiveness: The overhead and administrative components of the proposal, including salaries and honoraria, should be kept as low as possible. All other items should be necessary and appropriate. Priority will be given to proposals whose administrative costs are no more than twenty five per cent of the total requested from ECA.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 4, 2002.
Rick A. Ruth,
Principal Deputy Assistant Secretary, Bureau of Educational and Cultural Affairs, Department of State.

[FR Doc. 02-8835 Filed 4-10-02; 8:45 am]

BILLING CODE 4710-05-P